DEPARTMENT OF TRANSPORTATION

Federal Aviation Administration

14 CFR Part 61

[Docket No.: FAA-2018-1050; Amdt. No. 61-149]

RIN 2120-AL23

Removal of Training Requirements for an Airline Transport Pilot Certificate Issued Concurrently With a Single-Engine Airplane Type Rating

AGENCY: Federal Aviation Administration (FAA), Department of Transportation (DOT).

ACTION: Final rule.

SUMMARY: This final rule removes a multiengine training requirement for pilots seeking to obtain an initial airline transport pilot (ATP) certificate concurrently with a single-engine airplane type rating. The final rule also removes a 2014 compliance date because it is no longer necessary.

DATES: This final rule is effective on December 9, 2021.

ADDRESSES: For information on where to obtain copies of rulemaking documents and other information related to this final rule, see “How to Obtain Additional Information” in the SUPPLEMENTARY INFORMATION section of this document.

FOR FURTHER INFORMATION CONTACT: Barbara Adams, Air Transportation Division, Training and Simulation Group, Federal Aviation Administration, 800 Independence Avenue SW, Washington, DC 20591; telephone (202) 267-8166; email: Barbara.Adams@faa.gov.

SUPPLEMENTARY INFORMATION:

Authority for This Rulemaking

The Federal Aviation Administration (FAA) is responsible for the safety of flight in the U.S. and for the safety of U.S. civil operators, U.S. registered civil aircraft, and U.S. certificated airmen. Sections 106(f) and (g) of title 49, U.S. Code, subtitle I establish the FAA Administrator's authority to issue rules on aviation safety. Subtitle VII of title 49, Aviation Programs, describes in more detail the scope of the agency's authority.

The FAA is promulgating this rulemaking under the authority described in 49 U.S.C. 106(f), which establishes the authority of the Administrator to promulgate regulations and rules; 49 U.S.C. 44701(a)(5), which requires the Administrator to promulgate regulations and minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate. This rulemaking is within the scope of the FAA's authority because it amends the eligibility requirements for the issuance of a single-engine airplane ATP certificate.

List of Abbreviations and Acronyms Frequently Used in This Document

ATP Airline Transport Pilot

ATP CTP Airline Transport Pilot Certification Training Program

FSTD Flight Simulation Training Device

NPRM Notice of proposed rulemaking

PIC Pilot in Command

SOE Supervised operating experience

Table of Contents

I. Overview of Final Rule

II. Background

A. Statement of the Problem

B. History

C. Summary of the Notice of Proposed Rulemaking

III. Discussion of Public Comments and Final Rule

IV. Regulatory Notices and Analyses

A. Regulatory Evaluation

B. Regulatory Flexibility Determination

C. International Trade Impact Assessment

D. Unfunded Mandates Assessment

E. Paperwork Reduction Act

F. International Compatibility

G. Environmental Analysis

V. Executive Order Determinations

A. Executive Order 13132, Federalism

B. Executive Order 13211, Regulations That Significantly Affect Energy Supply, Distribution, or Use

C. Executive Order 13609, International Cooperation

VI. How To Obtain Additional Information

A. Electronic Access and Filing

B. Small Business Regulatory Enforcement Fairness Act

I. Overview of Final Rule

This rule removes an unnecessary multiengine training requirement for pilots seeking to obtain an initial ATP certificate concurrently with a single-engine airplane type rating. It also revises several provisions of the pilot certification regulations by removing from the text the July 31, 2014, date, which served as the compliance date for the multiengine ATP training requirements, because the date is no longer necessary.

II. Background

A. Statement of the Problem

Current regulations require a pilot seeking an ATP certificate concurrently with an airplane type rating to complete training in an FAA approved course from an authorized training provider. This training is commonly referred to as the ATP Certification Training Program (ATP CTP) and includes both ground training and flight simulation training device (FSTD) training in a device that represents a multiengine airplane.¹ The FAA intended this training requirement to apply to pilots seeking an ATP certificate in a multiengine airplane. However, because the regulations do not specify “multiengine” type rating, the requirement applies to single-engine airplanes for which a type rating is required.

¹ 14 CFR 61.156.

When the training requirement became effective in 2014, there were no single-engine airplanes that required the pilot to obtain a type rating prior to serving as pilot in command (PIC). With the certification of the Cirrus Vision Jet in 2016, there is now a single-engine airplane that requires the pilot to obtain a type rating prior to serving as PIC. Under the current regulations, if a pilot seeks a type rating in the Cirrus Vision Jet concurrently with the initial issuance of the ATP certificate in the airplane category with a single-engine class rating, that pilot would be required to complete the ATP CTP to be eligible for the practical test. This final rule removes the ATP CTP requirement for pilots seeking an ATP certificate concurrently with a single-engine type rating.

B. History

The Airline Safety and Federal Aviation Administration Extension Act of 2010 (Pub. L. 111-216) (the Act) was signed into law in August 2010 and included provisions to improve airline safety and pilot certification and training. In response to the Act, the FAA modified the eligibility requirements for an ATP certificate with an airplane category multiengine class rating in the Pilot Certification and Qualification Requirements for Air Carrier Operations Final Rule (2013 Final Rule).² Section 216 of the Act specifically required all pilots of 14 Code of Federal Regulations (CFR) part 121 operations to have an ATP certificate and an appropriate amount of multiengine time. Section 217 of the Act established minimum qualifications for an ATP certificate that were focused on air carrier pilots and multiengine airplane experience. The statute did not address single-engine airplanes. Additionally, part 121 prohibits the use of single-engine airplanes.³

² 78 FR 42324 (July 15, 2013).

³ 14 CFR 121.159.

To address the ATP requirements set forth in the Act, the FAA established a requirement for a pilot to complete an FAA approved ATP CTP. The ATP CTP includes ground training and flight training in a multiengine FSTD. Pilots must complete the ATP CTP and present the graduation certificate to be eligible for the ATP multiengine knowledge test.⁴ Applicants for an ATP certificate with an airplane category multiengine class rating or ATP certificate obtained concurrently with an airplane type rating must then present the graduation certificate for the ATP CTP and the passing knowledge test results when applying for the practical test.⁵

⁴ 14 CFR 61.35, 61.153, 61.159.

⁵ 14 CFR 61.39 and 61.156.

Upon review of the regulatory requirements for an ATP certificate, the FAA found that some of the requirements do not distinguish between a pilot seeking a single-engine airplane rating and a multiengine airplane rating. For example, as noted, pilots seeking an “airline transport pilot certificate obtained concurrently with an airplane type rating” are required to complete the ATP CTP specified in § 61.156 and receive a graduation certificate from an authorized training provider. With that express language, pilots seeking an ATP certificate concurrently with a single-engine airplane type rating must complete multiengine airplane training to obtain an ATP certificate in a single-engine airplane.

At the time the 2013 Final Rule published, there were no single-engine airplanes that required a type rating to serve as PIC. However, since the 2013 Final Rule published, Cirrus Aircraft received type certification for its single-engine Vision Jet (SF50),⁶ and a pilot is required to hold a type rating for that airplane to serve as PIC. Because the 2013 Final Rule did not specify that the ATP CTP was required only when a pilot was seeking an ATP certificate concurrently with a multiengine type rating, a pilot cannot complete a practical test for an initial ATP certificate with the SF50 type rating unless the pilot completes the ATP CTP. Alternatively, to avoid the training requirement, a pilot could use a different single-engine airplane (i.e., one that does not require a type rating) to obtain the initial ATP certificate and then complete a second practical test in the SF50 to add the type rating to the ATP certificate.⁷ Or, a pilot could add the type rating to his or her commercial pilot certificate first and then complete an ATP practical test in a different single-engine airplane and the SF50 type rating would be carried forward to the ATP certificate. In either case, the pilot would be taking an additional practical test to avoid completing the multiengine training in the ATP CTP.

⁶ Cirrus Aircraft received type certification of the SF50 Vision Jet in October 2016.

⁷ 14 CFR 61.157(b).

Several sections in part 61 apply to a pilot seeking an ATP certificate with a multiengine airplane rating or an ATP certificate concurrently with an “airplane type rating.” Prior to certification of the SF50, there was no need for regulatory requirements to delineate the class rating because all type-rated airplanes were multiengine. In the current environment, without the delineation of a class rating, the type rating training requirements that were intended to apply to pilots seeking an ATP certificate concurrently with a multiengine airplane type rating are being applied to pilots seeking an ATP certificate concurrently with a single-engine type rating. As a consequence, under the previous regulations, pilots seeking an ATP certificate concurrently with a single-engine type rating were subject to unnecessary and burdensome training requirements.

C. Summary of the Notice of Proposed Rulemaking

On December 20, 2018, the FAA published a notice of proposed rulemaking (NPRM) titled Removal of Training Requirements for an Airline Transport Pilot Certificate Issued Concurrently With a Single-Engine Airplane Type Rating.⁸ In the NPRM, the FAA proposed to revise §§ 61.39(d), 61.153(e), 61.156, and 61.165(f) to reflect that the ground training and FSTD training in a multiengine airplane, which is specified in § 61.156, applies to pilots seeking an ATP certificate with a multiengine airplane rating or an ATP certificate obtained concurrently with a multiengine airplane type rating. Additionally, because §§ 61.39(b), 61.155(c)(14), and 61.160 contain the same problematic language that fails to specify “multiengine” airplane type rating, the FAA proposed to make similar revisions to §§ 61.39(b), 61.155(c)(14),⁹ and 61.160 to reflect the FAA's original intent. The FAA explained that these amendments are necessary to ensure a pilot seeking an ATP certificate concurrently with a single-engine airplane type rating will not be required to comply with training requirements that were intended for applicants seeking an ATP certificate in a multiengine airplane. Consistent with the Act's direction to enhance multiengine experience requirements, the NPRM did not propose any changes for what is currently required for a pilot seeking a multiengine airplane ATP certificate.

⁸ 83 FR 65316.

⁹ The proposed language of § 61.155(c)(14) has been revised in the final rule for consistency with the language in the other sections. This change results in no substantive change.

The FAA noted that, while the multiengine training requirement of § 61.156 would be removed for a pilot seeking an ATP certificate concurrently with a single-engine airplane type rating, there would be no reduction in safety because a pilot is still required to obtain specific training and testing that is appropriate to the single-engine airplane type rating the pilot is seeking.¹⁰

¹⁰ To add a single-engine airplane type rating to an ATP certificate or obtain a single-engine type rating concurrently with an ATP certificate, a pilot must: (1) Receive and log ground and flight training from an authorized instructor; (2) receive an endorsement from an authorized instructor that the training was completed; and (3) perform a practical test in accordance with the requirements in § 61.157(b).

In addition to the amendments previously discussed, the FAA proposed to amend several sections in part 61 by removing the July 31, 2014 date, which served as the compliance date for the multiengine training requirement. This date is no longer necessary in the following regulations: §§ 61.35(a)(2) and (a)(3)(iii)(C); 61.153(e); 61.155(c)(14); the introductory text of 61.156; and 61.165(c)(2) and (f)(2). The FAA also proposed to remove § 61.35(a)(3)(iii)(B) because it contained a prerequisite for applicants seeking issuance of an ATP certificate prior to August 1, 2014, which is now unnecessary. As a result, the FAA proposed to redesignate § 61.35(a)(3)(iii)(C) as § 61.35(a)(3)(iii)(B).

Furthermore, the FAA concluded that § 61.155(d) is no longer necessary. This section required an applicant who successfully completed the ATP knowledge test prior to August 1, 2014, to successfully complete the practical test within 24 months from the month in which the knowledge test was successfully completed. Because more than 24 months has elapsed since August 1, 2014, it is impossible for an applicant to successfully complete an ATP practical test within 24 months of taking a knowledge test prior to that date. The FAA proposed to remove § 61.155(d) from part 61. For the same reasons, the FAA proposed to remove language from § 61.165(f)(2) that allows a pilot to present valid ATP knowledge test results from a test taken prior to August 1, 2014.

The NPRM provided for a 60-day comment period, which ended on February 19, 2019.

III. Discussion of Public Comments and Final Rule

The FAA received three comments to the NPRM, two from individuals and one from a training center. One individual recommended an amendment to the supervised operating experience (SOE) limitations defined in § 61.64(f)(2). The individual recommended that an airman who holds an unrestricted multiengine turbojet airplane type rating be eligible for an unrestricted single-engine type rating upon successful completion of a single-engine type rating practical test conducted in a flight simulator. The individual suggested this allowance would be based on the airman's existing operational experience in turbojet aircraft.

The FAA has considered the recommendation and determined it is outside the scope of this rulemaking. The commenter sought to allow multiengine turbine-powered airplane experience to count towards single-engine turbine-powered airplane experience. In accordance with the definition in 14 CFR part 1, a class as used with respect to the certification, ratings, privileges, and limitations of airmen, is established within a category of aircraft for aircraft having similar operating characteristics. Examples include “single engine” and “multiengine” for the airplane category. This distinction is necessary because the differences in operating characteristics between the two classes of airplane are significant, particularly with regard to handling an engine failure. Section 61.64 allows a Level C or higher full flight simulator to be used for a practical test for the issuance of an airman certificate or rating provided that simulator represents the category, class, and type for the rating sought. Because the practical test is administered in a simulator and not the airplane, a pilot is issued a SOE limitation unless the pilot meets prescribed experience requirements. Requiring 25 hours of supervised experience in the airplane following a successful practical test in a simulator is an important safety mitigation when the pilot does not otherwise have the requisite experience in an aircraft.

To allow experience in one class of airplane to count for another class of airplane to avoid an SOE requirement would require a more comprehensive review of the existing requirements in § 61.64 and the safety implications for making such a change, followed by a subsequent notice and comment period. In addition, because there is only one single-engine airplane that requires a type rating, there is a small number of pilots that could potentially benefit from such a change; therefore, the FAA will not pursue a review at this time.

The same individual noted that the § 61.159(a)(3) requirement of 50 hours of time in class for an ATP certificate is burdensome. The FAA has determined the comment is outside the scope of this rulemaking because the NPRM did not propose a change to § 61.159(a)(3). The FAA notes that it conducted a rulemaking proposing this requirement in 2012 in response to Public Law 111-216. It addressed the comments in the 2013 final rule and determined 50 hours of time in class for an ATP certificate was appropriate for all airplane classes, not just the airplane multiengine land class rating, and permitted up to 25 hours to be completed in a simulator if part of an approved training program.¹¹ No changes to the final rule will be made as a result of this comment.

¹¹ 78 FR 42332.

An additional individual commenter requested an update to § 61.159(d)(2) to allow flight time credit towards an ATP certificate for navigators in the U.S. Armed Forces similar to the credit permitted for flight engineers. The FAA has determined the comment is outside the scope of this rulemaking because the NPRM did not propose a change to § 61.159(d)(2).¹²

¹² The FAA has denied several petitions for exemption from individuals seeking to credit time as a military-trained navigator toward requirements for an ATP certificate. The FAA concluded that the training, proficiency, and decision-making skills are significantly different from those of a pilot-in-command and that such an exemption would not provide an equivalent level of safety to that provided in the regulation. See Exemption No. 17785 (FAA-2017-0160); Exemption No. 17866 (FAA-2017-1198).

The final comment came from CAE, Inc. (CAE). CAE contends that there are training tasks and learning objectives identified in the training course required in § 61.156 that are applicable to single-engine type rating candidates. CAE recommended the FAA task a committee to “carefully study the requirements and make recommendations as to which tasks and elements should be applied to ATP single-engine type rating candidates.”

The FAA has considered CAE's recommendation and determined that it is not necessary to task a committee to review and recommend tasks that should be applied to ATP single-engine type rating candidates. The FAA established these multiengine ATP certification requirements in response to Public Law 111-216. The statute was specific to modifying the multiengine ATP certificate requirements to incorporate the content now codified in § 61.156. The FAA recognizes some of the subject matter would be applicable to candidates for a single-engine type rating. However, there is no statutory or regulatory requirement for single-engine ATP applicants to receive such training. Training providers can review the existing guidance in Advisory Circular 61-138, Airline Transport Pilot Certification Program, and determine which topic areas are applicable should they want to offer such training voluntarily. In addition, the FAA published the ATP-Airplane Airman Certification Standards in June 2019, which further captures what a pilot of a single-engine airplane needs to know at the ATP level, and what a pilot of a single-engine airplane type rating needs to know, pursuant to FAA regulatory requirements. The FAA encourages training providers to use the available information and incorporate the applicable content in their single-engine type rating training programs.

The FAA received no other comments on the proposal. Accordingly, for the reasons stated in the NPRM and reiterated in section II.C of this document, the FAA is finalizing the proposed amendments without change. The FAA notes that, with the corrections to § 61.160(a) through (d), the FAA is also amending paragraph (f) to achieve parallel construction of the multiengine airplane phrasing. The FAA is also making a clarifying amendment to § 61.160(e) by adding a cross-reference that was inadvertently omitted in the Pilot Certification and Qualification Requirements for Air Carrier Operations final rule.¹³ As evident from the preamble to that final rule, § 61.160(e) was intended to “reduce the cross-country flight time required for all applicants for an R-ATP [airline transport pilot certificate with restricted privileges] certificate to 200 hours.” ¹⁴ However, the express language of the rule provided relief only to those categories of applicants listed in paragraphs (a), (b), and (c). Because the relief in § 61.160(e) was intended for all eligible applicants,¹⁵ including persons eligible under § 61.160(d), the FAA is amending § 61.160 by adding a cross-reference to paragraph (d).

¹³ 78 FR 42324.

¹⁴ 78 FR 42348-49.

¹⁵ This point was also summarized in the differences between the NPRM and the final rule stating “[m]inimum cross country time for all eligible pilots is 200 hours”. 78 FR 42330.

IV. Regulatory Notices and Analyses

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

In conducting these analyses, the FAA has determined that this final rule: (1) Has cost savings with no additional costs; (2) is not a significant regulatory action as defined by Executive Order 12866; (3) does not require an analysis under the Regulatory Flexibility Act; (4) will not create unnecessary obstacles to the foreign commerce of the United States; and (5) will not impose an unfunded mandate on State, local, or tribal governments, or on the private sector by exceeding the threshold identified above. These analyses are summarized below.

A. Regulatory Evaluation

This final rule does not make any changes to the requirements for a pilot seeking a multiengine airplane ATP certificate. Rather, this final rule simply removes an unintended and unnecessary training requirement in multiengine airplanes for a pilot seeking a single-engine airplane ATP certificate concurrently with a single-engine airplane type rating, with no reduction in safety because a pilot will still be required to obtain specific training and be tested to receive the single-engine airplane type rating.

This final rule will relieve costs for a pilot seeking an ATP certificate concurrently with a single-engine airplane type rating. Current regulations require a person seeking both an ATP and a single-engine type rating concurrently to complete the ATP CTP.

In order to estimate cost savings of this final rule, the FAA based its regulatory evaluation on the following assumptions, factors, and data. These are similar to those used for the regulatory evaluation of the proposed rule. The FAA received no comments on the regulatory evaluation of the proposed rule.

• The FAA uses a five-year period of analysis based on the most current data available at the time.

• The FAA uses a seven and three percent discount rate for estimating present values of cost savings as prescribed by the Office of Management and Budget (OMB) in Circular A-4.

• Monetized estimates for the final rule are in 2020 dollars by adjusting proposed rule values with the GDP deflator for 2020. OMB Circular A-4 recommends using the GDP deflator to adjust monetized effects to a constant dollar year.

• The FAA estimates costs of an ATP CTP to an applicant to be $5,105.

• The FAA estimates that the cost of renting a newer, all glass display, single-engine airplane to be approximately $179 per hour wet (rounded from $178.60). An airplane rented wet includes maintenance, insurance, fuel, airport fees, any other duties, and taxes.

• The FAA estimates that for an ATP practical test, a single-engine airplane has to be rented for three hours to practice for the test and two hours for the test.

• In addition to renting an airplane, a designee is required. The FAA estimates that the designee will cost the applicant $511.

• Based on data from Airlines for America (A4A), the FAA estimates that the average domestic round-trip fare and fees will be about $347.¹⁶

¹⁶ https://airlines.org/dataset/annual-round-trip-fares-and-fees-domestic/ Accessed October 2018.

• Based on data from the General Services Administration website, for 2017, the average cost of a hotel in the continental U.S. is $93 per day and the average cost of the per diem, including meals and incidental expenses, is $51 per day.¹⁷

¹⁷ https://www.gsa.gov/travel/plan-book/per-diem-rates/per-diem-files-archived.

As previously discussed, there were no single-engine airplanes that required a type rating until the certification of the Cirrus Vision Jet (SF50) in 2016. From October 2016 through June 2021, 493 pilots received SF50 type ratings. Of these 493 pilots, the FAA estimates that 40 percent could have upgraded their certificate if they had completed the ATP CTP, but opted to just add the SF50 type rating to their commercial certificate to avoid the ATP CTP training costs. Since there are 57 months from October 2016 through June 2021, the FAA estimates that there will be an average of about 9 pilots per month that will receive a single-engine type certificate (493 pilots divided by 57 months), or about 108 pilots per year (9 pilots multiplied by 12 months). The FAA then estimates that 40 percent of 108 pilots per year, or 43 pilots (0.4 multiplied by 108) per year, will receive savings by avoiding the costs of the ATP CTP.

In order to estimate the savings for an applicant, the FAA estimated the avoided costs of the ATP CTP based on two options for an applicant. For the first option, the applicant has to complete a five to seven day ATP CTP provided by an FAA-authorized training provider. The FAA estimates the course takes an average of six days ((5 + 7)/2). The applicant also incurs the expense to travel to the training provider to take the course, get a hotel for six days, and pay a per diem for meals. In the case above, an ATP CTP costs $5,105, round trip airfare costs about $347, a hotel costs $93 a day, and meals and incidental expenses cost $51 a day. Using these costs, the FAA estimates the relief provided in this final rule saves an applicant about $6,651 under this option. The following table shows the cost savings estimates of the first option over the five-year period of analysis.

Option 1—Potential Cost Savings
Year | Class: A | Fare: B | Hotel: C | Per diem: D | Avg days: E | #Pilots: F | Total cost savings: (A + B + ((C + D) × E)) × F | Present value: 7% | Present value: 3%
1 | $5,105 | $347 | $93 | $51 | 6 | 43 | $271,588 | $253,821 | $263,678
2 | 5,105 | 347 | 93 | 51 | 6 | 43 | 271,588 | 237,215 | 255,998
3 | 5,105 | 347 | 93 | 51 | 6 | 43 | 271,588 | 221,697 | 248,541
4 | 5,105 | 347 | 93 | 51 | 6 | 43 | 271,588 | 207,193 | 241,302
5 | 5,105 | 347 | 93 | 51 | 6 | 43 | 271,588 | 193,638 | 234,274
Total (Adjusted with 2020 GDP deflator 2020:2017 = 5.3%) | 1,429,911 | 1,172,583 | 1,309,715
Savings per pilot (2020 dollars) | 6,651 | 5,454 | 6,092
Note: Numbers may not add due to rounding.

For the second option, the applicant has to rent a single-engine airplane and hire a designee (check pilot) for the practical test. The FAA estimates that for an ATP practical test, the applicant will rent a single-engine airplane for five hours (three hours to practice for the test and two hours for the test). Using the assumptions above, the rent of a single-engine airplane costs approximately $178.6 per hour. The FAA estimates the airplane rental costs a total of approximately $893 to rent ($178.6 multiplied by 5 total hours). The applicant also incurs expenses to travel to a private plane rental company, hire a designee, get a hotel for one day, and pay a per diem for meals. In the assumptions above, round trip airfare costs about $347, a designee would cost $511, a hotel would cost $93 a day, and meals and incidental expenses would cost $51 a day. Using these costs, the FAA estimates that in this situation the relief provided in this final rule will save an applicant about $1,895 under this option. The following table shows the cost savings estimates of the second option over the five-year period of analysis.

Option 2—Potential Cost Savings
Year | Fare: A | A/C rental: B | Designee: C | Hotel: D | Per diem: E | #Pilots: F | Total cost: (A + B + ((C + D) × E)) × F | Present value: 7% | Present value: 3%
1 | $347 | $893 | $511 | $93 | $51 | 43 | $81,485 | $76,154 | $79,112
2 | 347 | 893 | 511 | 93 | 51 | 43 | 81,485 | 71,172 | 76,807
3 | 347 | 893 | 511 | 93 | 51 | 43 | 81,485 | 66,516 | 74,570
4 | 347 | 893 | 511 | 93 | 51 | 43 | 81,485 | 62,165 | 72,398
5 | 347 | 893 | 511 | 93 | 51 | 43 | 81,485 | 58,098 | 70,290
Total (Adjusted with 2020 GDP deflator 2020:2017 = 5.3%) | 407,425 | 334,105 | 373,177
Savings per pilot (2020 dollars) | 1,895 | 1,554 | 1,736
Note: Numbers may not add due to rounding.

Using the analysis from both options, the FAA estimates that this final rule has present value cost savings from $334 thousand to $1.2 million at a seven percent discount rate over the five-year period of analysis. At a three percent discount rate, this final rule has present value cost savings from $373 thousand to $1.3 million over the five-year period of analysis. While this final rule results in small total cost savings with no additional costs, it will provide substantial cost savings to affected pilots ranging from $1,895 to $6,651 per pilot.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration. The RFA covers a wide-range of small entities, including small businesses, not-for-profit organizations, and small governmental jurisdictions.

Agencies must perform a review to determine whether a rulemaking would have a significant economic impact on a substantial number of small entities. If the agency determines that it will, the agency must prepare a regulatory flexibility analysis as described in the RFA. However, if an agency determines that a rule is not expected to have a significant economic impact on a substantial number of small entities, section 605(b) of the RFA provides that the head of the agency may so certify, and a regulatory flexibility analysis is not required. The certification must include a statement providing the factual basis for this determination, and the reasoning should be clear.

This final rule does not make any changes to the requirements for a pilot seeking a multiengine airplane ATP certificate. Rather, this final rule will simply remove an unintended and unnecessary training requirement in multiengine airplanes for a pilot seeking a single-engine airplane ATP certificate concurrently with a single-engine airplane type rating, with no reduction in safety because a pilot will still be required to obtain specific training and be tested to receive the single-engine airplane type rating. This final rule relieves costs for a pilot seeking an ATP certificate concurrently with a single-engine airplane type rating. This rule directly affects individual pilots and not small entities.

Therefore, as provided in section 605(b), the head of the FAA certifies that this final rule does not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that it has only a domestic impact and therefore no effect on international trade.

D. Unfunded Mandates Assessment

Title II of the Unfunded Mandates Reform Act of 1995 (Pub. L. 104-4) requires each Federal agency to prepare a written statement assessing the effects of any Federal mandate in a final agency rule that may result in an expenditure of $100 million or more (in 1995 dollars) in any one year by State, local, and tribal governments, in the aggregate, or by the private sector; such a mandate is deemed to be a “significant regulatory action.” The FAA currently uses an inflation-adjusted value of $155.0 million in lieu of $100 million. This final rule does not contain such a mandate; therefore, the requirements of Title II of the Act do not apply.

E. Paperwork Reduction Act

The Paperwork Reduction Act of 1995 (44 U.S.C. 3507(d)) requires that the FAA consider the impact of paperwork and other information collection burdens imposed on the public. According to the 1995 amendments to the Paperwork Reduction Act (5 CFR 1320.8(b)(2)(vi)), an agency may not collect or sponsor the collection of information, nor may it impose an information collection requirement unless it displays a currently valid Office of Management and Budget (OMB) control number.

The FAA has determined that there will be no new requirement for information collection associated with this final rule. The FAA has also determined it is not necessary to amend any existing collection. The current paperwork filing that established the ATP CTP imposes a requirement for a training provider to submit a training program to the FAA for approval. In the original filing, it was determined there was no paperwork burden on a person taking the ATP CTP; therefore, this final rule will have no impact on that filing. The FAA also evaluated the paperwork filing for the Airman Certificate and/or Rating Application. If an applicant is seeking a multiengine airplane ATP certificate, submitting the ATP CTP graduation certificate is required as part of that collection. This final rule does not change that requirement; therefore, no amendment is needed.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6 and involves no extraordinary circumstances.

V. Executive Order Determinations

A. Executive Order 13132, Federalism

The FAA has analyzed this final rule under the principles and criteria of Executive Order 13132, Federalism. The agency has determined that this action will not have a substantial direct effect on the States, or the relationship between the Federal Government and the States, or on the distribution of power and responsibilities among the various levels of government, and, therefore, will not have Federalism implications.

B. Executive Order 13211, Regulations That Significantly Affect Energy Supply, Distribution, or Use

The FAA analyzed this final rule under Executive Order 13211, Actions Concerning Regulations that Significantly Affect Energy Supply, Distribution, or Use (May 18, 2001). The agency has determined that it will not be a “significant energy action” under the executive order and will not be likely to have a significant adverse effect on the supply, distribution, or use of energy.

C. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this final rule has no effect on international regulatory cooperation.

VI. How To Obtain Additional Information

A. Electronic Access and Filing

A copy of the notice of proposed rulemaking, all comments received, this final rule, and all background material may be viewed online at https://www.regulations.gov using the docket number listed above. A copy of this rule will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document, may contact its local FAA official, or the person listed under the FOR FURTHER INFORMATION CONTACT heading at the beginning of the preamble. To find out more about SBREFA on the internet, visit https://www.faa.gov/regulations_policies/rulemaking/sbre_act/.

List of Subjects in 14 CFR Part 61

Aircraft, Airmen, Aviation safety.

The Amendment

In consideration of the foregoing, the Federal Aviation Administration amends chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 44729, 44903, 45102-45103, 45301-45302, Sec. 2307 Pub. L. 114-190, 130 Stat. 615 (49 U.S.C. 44703 note).

2. Amend § 61.35 by:

a. Revising paragraphs (a)(2) and (a)(3)(iii)(A);

b. Removing paragraph (a)(3)(iii)(B);

c. Redesignating paragraph (a)(3)(iii)(C) as paragraph (a)(3)(iii)(B); and

d. Revising newly-redesignated paragraph (a)(3)(iii)(B).

The revisions read as follows:

§ 61.35 Knowledge test: Prerequisites and passing grades.

(a) * * *

(2) For the knowledge test for an airline transport pilot certificate with an airplane category multiengine class rating, a graduation certificate for the airline transport pilot certification training program specified in § 61.156; and

(3) * * *

(iii) * * *

(A) For issuance of certificates other than the ATP certificate with an airplane category multiengine class rating, the applicant meets or will meet the age requirements of this part for the certificate sought before the expiration date of the airman knowledge test report; and

(B) For issuance of an ATP certificate with an airplane category multiengine class rating obtained under the aeronautical experience requirements of § 61.159 or § 61.160, the applicant is at least 18 years of age at the time of the knowledge test;

* * * * *

3. Amend § 61.39 by revising paragraph (b) introductory text and paragraph (d) introductory text to read as follows:

§ 61.39 Prerequisites for practical tests.

* * * * *

(b) An applicant for an airline transport pilot certificate with an airplane category multiengine class rating or an airline transport pilot certificate obtained concurrently with a multiengine airplane type rating may take the practical test with an expired knowledge test only if the applicant passed the knowledge test after July 31, 2014, and is employed:

* * * * *

(d) In addition to the requirements in paragraph (a) of this section, to be eligible for a practical test for an airline transport pilot certificate with an airplane category multiengine class rating or airline transport pilot certificate obtained concurrently with a multiengine airplane type rating, an applicant must:

* * * * *

4. Amend § 61.153 by revising paragraph (e) to read as follows:

§ 61.153 Eligibility requirements: General.

* * * * *

(e) For an airline transport pilot certificate with an airplane category multiengine class rating or an airline transport pilot certificate obtained concurrently with a multiengine airplane type rating, receive a graduation certificate from an authorized training provider certifying completion of the airline transport pilot certification training program specified in § 61.156 before applying for the knowledge test required by paragraph (g) of this section;

* * * * *

5. Amend § 61.155 by revising paragraph (c)(14) and removing paragraph (d).

The revision reads as follows:

§ 61.155 Aeronautical knowledge.

* * * * *

(c) * * *

(14) For an airline transport pilot certificate with an airplane category multiengine class rating or an airline transport pilot certificate obtained concurrently with a multiengine airplane type rating, the content of the airline transport pilot certification training program in § 61.156.

6. Amend § 61.156 by revising the section heading and introductory text to read as follows:

§ 61.156 Training requirements: Airplane category—multiengine class or multiengine airplane type rating concurrently with an airline transport pilot certificate.

A person who applies for the knowledge test for an airline transport pilot certificate with an airplane category multiengine class rating must present a graduation certificate from an authorized training provider under part 121, 135, 141, or 142 of this chapter certifying the applicant has completed the following training in a course approved by the Administrator.

* * * * *

7. Amend § 61.160 by revising paragraphs (a) introductory text, (b) introductory text, (c) introductory text, and paragraphs (d), (e), and (f) to read as follows:

§ 61.160 Aeronautical experience—airplane category restricted privileges.

(a) Except for a person who has been removed from flying status for lack of proficiency or because of a disciplinary action involving aircraft operations, a U.S. military pilot or former U.S. military pilot may apply for an airline transport pilot certificate with an airplane category multiengine class rating or an airline transport pilot certificate concurrently with a multiengine airplane type rating with a minimum of 750 hours of total time as a pilot if the pilot presents:

* * * * *

(b) A person may apply for an airline transport pilot certificate with an airplane category multiengine class rating or an airline transport pilot certificate concurrently with a multiengine airplane type rating with a minimum of 1,000 hours of total time as a pilot if the person:

* * * * *

(c) A person may apply for an airline transport pilot certificate with an airplane category multiengine class rating or an airline transport pilot certificate concurrently with a multiengine airplane type rating with a minimum of 1,250 hours of total time as a pilot if the person:

* * * * *

(d) A graduate of an institution of higher education who completes fewer than 60 semester credit hours but at least 30 credit hours and otherwise satisfies the requirements of paragraph (b) of this section may apply for an airline transport pilot certificate with an airplane category multiengine class rating or an airline transport pilot certificate concurrently with a multiengine airplane type rating with a minimum of 1,250 hours of total time as a pilot.

(e) A person who applies for an airline transport pilot certificate under the total flight times listed in paragraphs (a), (b), (c), and (d) of this section must otherwise meet the aeronautical experience requirements of § 61.159, except that the person may apply for an airline transport pilot certificate with 200 hours of cross-country flight time.

(f) A person may apply for an airline transport pilot certificate with an airplane category multiengine class rating or an airline transport pilot certificate concurrently with a multiengine airplane type rating if the person has 1,500 hours total time as a pilot, 200 hours of cross-country flight time, and otherwise meets the aeronautical experience requirements of § 61.159.

* * * * *

8. Amend § 61.165 by revising paragraphs (c)(2), (f) introductory text, and (f)(2) to read as follows:

§ 61.165 Additional aircraft category and class ratings.

* * * * *

(c) * * *

(2) Successfully complete the airline transport pilot certification training program specified in § 61.156;

* * * * *

(f) Adding a multiengine class rating to an airline transport pilot certificate with a single engine class rating. A person applying to add a multiengine class rating, or a multiengine class rating concurrently with a multiengine airplane type rating, to an airline transport pilot certificate with an airplane category single engine class rating must—

* * * * *

(2) Pass a required knowledge test on the aeronautical knowledge areas of § 61.155(c), as applicable to multiengine airplanes;

* * * * *

Issued under authority provided by 49 U.S.C. 106(f), 44701(a), and 44703 in Washington, DC, on or about November 3, 2021.
Steve Dickson,
Administrator.

[FR Doc. 2021-24411 Filed 11-8-21; 8:45 am]

BILLING CODE 4910-13-P